DEPARTMENT OF TRANSPORTATION

Federal Aviation Administration

14 CFR Part 39

[Docket No. FAA-2018-0454; Product Identifier 2017-NM-056-AD; Amendment 39-19387; AD 2018-18-08]

RIN 2120-AA64

Airworthiness Directives; Airbus SAS Airplanes

AGENCY: Federal Aviation Administration (FAA), Department of Transportation (DOT).

ACTION: Final rule.

SUMMARY: We are adopting a new airworthiness directive (AD) for all Airbus SAS Model A330-200 Freighter series airplanes, Model A330-200 and -300 series airplanes, and Model A340-200 and -300 series airplanes. This AD was prompted by reports of cracked slat tracks at the location of the front stop attachment to the track. This AD requires a detailed inspection, repetitive special detailed inspections, and corrective actions if necessary. We are issuing this AD to address the unsafe condition on these products.

DATES: This AD is effective October 15, 2018.

The Director of the Federal Register approved the incorporation by reference of certain publications listed in this AD as of October 15, 2018.

ADDRESSES: For service information identified in this final rule, contact Airbus SAS, Airworthiness Office—EAL, Rond-Point Emile Dewoitine No: 2, 31700 Blagnac Cedex, France; phone: +33 5 61 93 36 96; fax: +33 5 61 93 45 80; email: airworthiness.A330-A340@airbus.com; internet: http://www.airbus.com. You may view this service information at the FAA, Transport Standards Branch, 2200 South 216th St., Des Moines, WA. For information on the availability of this material at the FAA, call 206-231-3195. It is also available on the internet at http://www.regulations.gov by searching for and locating Docket No. FAA-2018-0454.

Examining the AD Docket

You may examine the AD docket on the internet at http://www.regulations.gov by searching for and locating Docket No. FAA-2018-0454; or in person at Docket Operations between 9 a.m. and 5 p.m., Monday through Friday, except Federal holidays. The AD docket contains this final rule, the regulatory evaluation, any comments received, and other information. The address for Docket Operations (phone: 800-647-5527) is in the ADDRESSES section.

FOR FURTHER INFORMATION CONTACT: Vladimir Ulyanov, Aerospace Engineer, International Section, Transport Standards Branch, FAA, 2200 South 216th St., Des Moines, WA 98198; phone and fax: 206-231-3229.

SUPPLEMENTARY INFORMATION:

Discussion

We issued a notice of proposed rulemaking (NPRM) to amend 14 CFR part 39 by adding an AD that would apply to all Airbus SAS Model A330-200 Freighter series airplanes, Model A330-200 and -300 series airplanes, and Model A340-200 and -300 series airplanes. The NPRM published in the Federal Register on May 29, 2018 (83 FR 24427). The NPRM was prompted by reports of cracked slat tracks at the location of the front stop attachment to the track. The NPRM proposed to require a detailed inspection, repetitive special detailed inspections, and corrective actions if necessary.

We are issuing this AD to address cracked slat tracks which could affect the structural integrity of the slat surface, possibly leading to detachment of an outer or inner slat surface, and resulting in reduced control of the airplane.

The European Aviation Safety Agency (EASA), which is the Technical Agent for the Member States of the European Union, has issued EASA AD 2017-0060, dated April 7, 2017 (referred to after this as the Mandatory Continuing Airworthiness Information, or “the MCAI”), to correct an unsafe condition for all Airbus SAS Model A330-200 Freighter series airplanes; Model A330-200 and -300 series airplanes; and Model A340-200 and -300 series airplanes. The MCAI states:

Several cases of cracked slat tracks at the location of front stop attachment to track have been reported by operators. Analysis of the affected slat tracks (Airbus pre-modification (mod) 45967 design) revealed that induced torque loads during normal installation of the front stop, in combination with an incorrect shaft length of the attachment bolts and geometry of the front stop, are the root cause.

This condition, if not detected and corrected, would affect the structural integrity of the slat surface, which could lead to detachment of an outer or inner slat surface, possibly resulting in reduced control of the aeroplane and/or injury to persons on the ground.

To address this potential unsafe condition, Airbus issued Service Bulletin (SB) A330-57-3123 and SB A340-57-4130, to provide inspection instructions.

For the reasons described above, this [EASA] AD requires a one-time detailed inspection (DET) of the front stop lateral and aft surfaces [for marks (dents or scratches),] and repetitive special detailed inspections (SDI) of the front stop attachment areas, of slat tracks number (No.) 5 to No. 16 inclusive, both left hand (LH) and right hand (RH) wings [for cracks], and, depending on findings, accomplishment of applicable corrective action(s) [corrective actions include rework, repair, and slat rigging].

This [EASA] AD also includes reference to an optional modification (Airbus mod 205378) of the affected slat tracks, for which the associated SBs (SB A330-57-3126 and SB A340-57-4133, as applicable) are expected to become available in July 2017, which constitutes terminating action for the repetitive inspections required by this [EASA] AD.

You may examine the MCAI in the AD docket on the internet at http://www.regulations.gov by searching for and locating Docket No. FAA-2018-0454.

Comments

We gave the public the opportunity to participate in developing this final rule. We received no comments on the NPRM or on the determination of the cost to the public.

Conclusion

We reviewed the relevant data and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus has issued Service Bulletin A330-57-3123, Revision 01, dated September 27, 2017; and Service Bulletin A340-57-4130, Revision 01, dated September 27, 2017. This service information describes procedures for a detailed inspection of the front stop lateral and aft surfaces for marks (dents or scratches), repetitive special detailed inspections of the front stop attachment areas, of slat track numbers 5 to 16 inclusive, both LH and RH wings for cracks, and corrective actions. These documents are distinct since they apply to different airplane models.

Airbus has also issued Service Bulletin A330-57-3126, dated December 21, 2017; and Service Bulletin A340-57-4133, dated December 21, 2017. This service information describes procedures for modification of all affected slat tracks on an airplane. These documents are distinct since they apply to different airplane models.

This service information is reasonably available because the interested parties have access to it through their normal course of business or by the means identified in the ADDRESSES section.

Costs of Compliance

We estimate that this AD affects 101 airplanes of U.S. registry.

We estimate the following costs to comply with this AD:

Estimated Costs
Action | Labor cost | Parts cost | Cost per product | Cost on U.S. operators
Detailed Inspection | 25 work-hours × $85 per hour = $2,125 | $0 | $2,125 | $214,625.
Special Detailed Inspection | 25 work-hours × $85 per hour = $2,125 per inspection cycle | 0 | $2,125 per inspection cycle | $214,625 per inspection cycle.
Reporting | 1 work-hour × $85 per hour = $85 per inspection cycle | 0 | $85 per inspection cycle | $8,585 per inspection cycle.
Modification | 49 work-hours × $85 per hour = $4,165 | 8,150 | $12,315 | $1,243,815.

We have received no definitive data that would enable us to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-18-08 Airbus SAS: Amendment 39-19387; Docket No. FAA-2018-0454; Product Identifier 2017-NM-056-AD.

(a) Effective Date

This AD is effective October 15, 2018.

(b) Affected ADs

None.

(c) Applicability

This AD applies to the airplanes identified in paragraphs (c)(1), (c)(2), (c)(3), (c)(4), and (c)(5) of this AD, certificated in any category, all manufacturer serial numbers.

(1) Airbus SAS Model A330-223F and -243F airplanes.

(2) Airbus SAS Model A330-201, -202, -203, -223, and -243 airplanes.

(3) Airbus SAS Model A330-301, -302, -303, -321, -322, -323, -341, -342, and -343 airplanes.

(4) Airbus SAS Model A340-211, -212, -213 airplanes.

(5) Airbus SAS Model A340-311, -312, and -313 airplanes.

(d) Subject

Air Transport Association (ATA) of America Code 57, Wings.

(e) Reason

This AD was prompted by reports of cracked slat tracks at the location of the front stop attachment to the track. We are issuing this AD to detect and correct cracked slat tracks which could affect the structural integrity of the slat surface, possibly leading to detachment of an outer or inner slat surface, and resulting in reduced control of the airplane.

(f) Compliance

Comply with this AD within the compliance times specified, unless already done.

(g) Definitions

(1) For the purpose of this AD, “affected slat track” is defined as a pre-modification 45967 slat track, located at the wing positions as indicated in figure 1 to paragraph (g) of this AD, and having a part number specified in figure 2 to paragraph (g) of this AD. In case the part number identification (ID) plate is missing or cannot be read, the slat track can be identified by the ink marking. If the operator cannot determine the part number, then that airplane is in Group 1.

(2) For the purpose of this AD: Group 1 airplanes are those that, on the effective date of this AD, have an affected slat track installed. Group 2 airplanes are those that, on the effective date of this AD, do not have any affected slat track installed.

BILLINGCODE 4910-13-P

(h) One-Time Detailed Inspection and Repetitive Special Detailed Inspections

For Group 1 airplanes: At the applicable times specified in figure 3 to paragraph (h) of this AD, do a detailed inspection of the front stop lateral and aft surfaces, and do a special detailed inspection of the front stop attachment areas of each affected slat track, both right hand (RH) and left hand (LH) wings, in accordance with the Accomplishment Instructions of Airbus Service Bulletin A330-57-3123, Revision 01, including Appendixes 02 and 03, dated September 27, 2017; or Airbus Service Bulletin A340-57-4130, Revision 01, including Appendixes 02 and 03, dated September 27, 2017; as applicable. Thereafter, repeat the special detailed inspection for the front stop attachment areas of each affected slat track, both RH and LH wings, at intervals not to exceed the applicable compliance times specified in figure 4 to paragraph (h) of this AD.

BILLINGCODE 4910-13-C

(i) Corrective Actions

(1) If, during any special detailed inspection required by paragraph (h) of this AD, any crack is detected at the front stop attachment area of an affected slat track: Before further flight, obtain corrective action instructions approved by the Manager, International Section, Transport Standards Branch, FAA; or the European Aviation Safety Agency (EASA); or Airbus SAS's EASA Design Organization Approval (DOA), and accomplish them within the compliance time specified therein. If approved by the DOA, the approval must include the DOA-authorized signature.

(2) If, during any inspection required by paragraph (h) of this AD, marks (dents or scratches) are found on the front stop lateral or aft surfaces of an affected slat track; provided that no crack is detected; before further flight, rework the affected lateral front stop surface of that slat track, and accomplish slat rigging, as applicable, in accordance with the Accomplishment Instructions of Airbus Service Bulletin A330-57-3123, Revision 01, including Appendixes 02 and 03, dated September 27, 2017; or Airbus Service Bulletin A340-57-4130, Revision 01, including Appendixes 02 and 03, dated September 27, 2017. Accomplishment of rework or slat rigging on an airplane, as required by this paragraph, does not constitute terminating action for the repetitive special detailed inspection required by paragraph (h) of this AD.

(3) If, during any inspection required by paragraph (h) of this AD, marks (dents or scratches) are found on the front stop lateral or aft surfaces of an affected slat track, and any crack is detected at the front stop attachment area of that slat track: Before further flight, obtain corrective action instructions approved by the Manager, International Section, Transport Standards Branch, FAA; or EASA; or Airbus SAS's EASA DOA, and accomplish them within the compliance time specified therein. If approved by the DOA, the approval must include the DOA-authorized signature.

(j) Reporting

At the applicable time specified in paragraph (j)(1) or (j)(2) of this AD: Report the results of the inspections required by paragraph (h) of this AD to Airbus Service Bulletin Reporting Online Application on Airbus World (https://w3.airbus.com/), or submit the results to Airbus in accordance with the Accomplishment Instructions of Airbus Service Bulletin A330-57-3123, Revision 01, including Appendixes 02 and 03, dated September 27, 2017, or Airbus Service Bulletin A340-57-4130, Revision 01, including Appendixes 02 and 03, dated September 27, 2017. The report must include the inspection results (including no findings), a description of any discrepancies found, the airplane serial number, and the number of landings and flight hours on the airplane.

(1) If the inspection was done on or after the effective date of this AD: Submit the report within 60 days after each inspection required by paragraph (h) of this AD.

(2) If the inspection was done before the effective date of this AD: Submit the report within 60 days after the effective date of this AD.

(k) Optional Terminating Actions

(1) Replacement of an affected slat track at any position with a post-modification 45967 slat track, if accomplished as part of the corrective actions specified in paragraph (i)(1) or (i)(3) of this AD, terminates the repetitive inspections required by paragraph (h) of this AD, for that slat track position.

(2) Modification of all affected slat tracks on an airplane in accordance with the Accomplishment Instructions of Airbus Service Bulletin A330-57-3126, including Appendixes 02 and 03, dated December 21, 2017; or Airbus Service Bulletin A340-57-4133, including Appendixes 02 and 03, dated December 21, 2017; as applicable, terminates the repetitive inspections required by paragraph (h) of this AD for that airplane, provided that, prior to modification, the affected slat tracks pass an inspection (crack free) in accordance with the instructions of Airbus Service Bulletin A330-57-3123, Revision 01, including Appendixes 02 and 03, dated September 27, 2017; or Airbus Service Bulletin A340-57-4130, Revision 01, including Appendixes 02 and 03, dated September 27, 2017; as applicable.

(l) Parts Installation Limitations

(1) Except as specified in paragraph (l)(2) of this AD: For Group 1 airplanes, after the effective date of this AD, an affected slat track may be installed, provided the installation is accomplished using a method approved by the Manager, International Section, Transport Standards Branch, FAA; or EASA; or Airbus SAS's EASA DOA. If approved by the DOA, the approval must include the DOA-authorized signature.

(2) After modification of a Group 1 airplane as specified in paragraph (k)(2) of this AD, no person may install an affected slat track on that airplane.

(3) For Group 2 airplanes: As of the effective date of this AD, no person may install an affected slat track on any Group 2 airplane.

(m) Credit for Previous Actions

This paragraph provides credit for actions required by paragraphs (h), (i), and (j) of this AD, if those actions were performed before the effective date of this AD using Airbus Service Bulletin A330-57-3123, dated June 14, 2016; or Airbus Service Bulletin A340-57-4130, dated June 14, 2016, provided that within 12 months after the effective date of this AD, the additional work identified in Airbus Service Bulletin A330-57-3123, Revision 01, including Appendixes 02 and 03, dated September 27, 2017; or Airbus Service Bulletin A340-57-4130, Revision 01, including Appendixes 02 and 03, dated September 27, 2017; as applicable, has been completed in accordance with Airbus Service Bulletin A330-57-3123, Revision 01, including Appendixes 02 and 03, dated September 27, 2017; or Airbus Service Bulletin A340-57-4130, Revision 01, including Appendixes 02 and 03, dated September 27, 2017; as applicable.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Branch, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus SAS's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 work-hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(4) Required for Compliance (RC): Except as required by paragraph (i) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Refer to Mandatory Continuing Airworthiness Information (MCAI) EASA AD 2017-0060, dated April 7, 2017, for related information. This MCAI may be found in the AD docket on the internet at http://www.regulations.gov by searching for and locating Docket No. FAA-2018-0454.

(2) For more information about this AD, contact Vladimir Ulyanov, Aerospace Engineer, International Section, Transport Standards Branch, FAA, 2200 South 216th St., Des Moines, WA 98198; phone and fax 206 231 3229.

(3) Service information identified in this AD that is not incorporated by reference is available at the addresses specified in paragraphs (p)(3) and (p)(4) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-57-3123, Revision 01, dated September 27, 2017.

(ii) Airbus Service Bulletin A330-57-3126, dated December 21, 2017.

(iii) Airbus Service Bulletin A340-57-4130, Revision 01, dated September 27, 2017.

(iv) Airbus Service Bulletin A340-57-4133, dated December 21, 2017.

(3) For service information identified in this AD, contact Airbus SAS, Airworthiness Office—EAL, Rond-Point Emile Dewoitine No: 2, 31700Blagnac Cedex, France; phone: +33 5 61 93 36 96; fax: +33 5 61 93 45 80; email: airworthiness.A330-A340@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on August 22, 2018.
James Cashdollar,
Acting Director, System Oversight Division, Aircraft Certification Service.

[FR Doc. 2018-18907 Filed 9-7-18; 8:45 am]

BILLING CODE 4910-13-P